DEPARTMENT OF DEFENSE

Department of the Navy

Notice of Availability of Government-Owned Inventions; Available for Licensing

AGENCY: U.S. Department of the Navy, DoD.

ACTION: Notice.

SUMMARY: The inventions listed below are assigned to the United States Government as represented by the Secretary of the Navy and are available for domestic licensing by the Department of the Navy.

The following patents are available for licensing: U.S. Patent No. 7,231,356: Operating Plan for Machinery//U.S. Patent No. 7,260,833: One-Way Network Transmission Interface Unit//U.S. Patent No. 7,280,925: Installed Instrumentation Maintenance Method//U.S. Patent No. 7,278,514: Acoustic Noise Filter//U.S. Patent No. 7,284,570: Electrically Powered Valve for Controlling, Monitoring and Evaluating Fluid Flow//U.S. Patent No. 7,290,738: Dual Jet Emerging Lift Augmentations System for Airfoils and Hydrofoils//U.S. Patent No. 7,301,641: Fiber Optic Smoke Detector//U.S. Patent No. 7,307,702: Color Switchable Stress-Fracture Sensor for Damage Control//U.S. Patent No. 7,316,194: Rudders for High-Speed Ships//U.S. Patent No. 7,322,786: Mobile Loader for Transfer of Containers Between Delivery Vehicles and Marine Terminal Cranes//U.S. Patent No. 7,324,016: Navigational Indicating System for Rotary Wing Aircraft//U.S. Patent No. 7,328,879: Equipment Installation Support on Foundation//U.S. Patent No. 7,340,918: Magnetostrictive Drive of Refrigeration Systems//U.S. Patent No. 7,367,464: Pendulation Control System With Active Rider Block Tagline System for Shipboard Cranes//U.S. Patent No. 7,374,668: Valve Automated In-Situ Cleaning System for Oil Water Separator//U.S. Patent No. 7,390,380: Processing of Shipboard Wastewater//U.S. Patent No. 7,432,821: Fiber Optic Measurement of Bearing Surface Wear//U.S. Patent No. 7,430,866: Air-Independent Fuel Combustion Energy Conversion//U.S. Patent No. 7,436,090: Direct Drive Hybrid Rotary Motor//U.S. Patent No. 7,443,764: Resonant Acoustic Projector//U.S. Patent No. 7,441,308: Watertight Door Hinge Support//U.S. Patent No. 7,451,719: High Temperature Superconducting Degaussing System//U.S. Patent No. 7,451,714: All Purpose Seal//U.S. Patent No. 7,479,193: Preparation of Positive Magnetostrictive Materials for Use Under Tension//U.S. Patent No. 7,492,240: Integrated Capacitor and Inductor//U.S. Patent No. 7,519,502: Surface Profile Measurement Processing Method//U.S. Patent No. 7,517,263: Advanced Blade Sections for High Speed Propellers//U.S. Patent No. 7,517,191: Operational Maintenance of Air-Conditioning Installations//U.S. Patent No. 7,516,712: Vertical Damper For Mooring Vessels//U.S. Patent No. 7,521,708: High Sensitivity Ring-Squid Magnetic Sensor//U.S. Patent No. 7,525,711: Actively Tunable Electromagnetic Metamaterial//U.S. Patent No. 7,548,489: Method for Designing a Resonant Acoustic Projector//U.S. Patent No. 7,547,997: Aircraft Electrical Servicing Adapter//U.S. Patent No. 7,552,018: Method for Quickly Quantifying the Resistance of a Thin Film as a Function of Frequency//U.S. Patent No. 7,556,471: Inter-Ship Personnel Transfer Device and Method of Moving Between Compacted State and Non-Compacted State//U.S. Patent No. 7,557,485: Ion Conducting Electrolyte Brush Additives//U.S. Patent No. 7,557,747: Method and Apparatus Using Fast Electronic Switching for Multi-Channelizing a Single-Channel Radar System//U.S. Patent No. 7,564,152: High Magnetostriction of Positive Magnetostrictive Materials Under Tensile Load//U.S. Patent No. 7,592,173: Sea Operationally Enhanced Bioreactor//U.S. Patent No. 7,592,727: Quiet Load for Motor Testing//U.S. Patent No. 7,597,010: Method of Achieving High Transduction Under Tension or Compression//U.S. Patent No. 7,621,230: Carrier and Flow-Through Ship//U.S. Patent No. 7,624,080: A Smart Sensor Continuously Adapting to a Data Stream in Real Time Using Both Permanent and Temporary Knowledge Bases to Recognize Sensor Measurements//U.S. Patent No. 7,681,515: Life Raft Launcher//U.S. Patent No. 7,685,922: Composite Ballistic Armor Having Geometric Ceramic Elements for Shock Wave Attenuation//U.S. Patent No. 7,707,957: Structural Support to Underwater Vessels Using Shape Memory Alloys//U.S. Patent No. 7,714,536: Battery Charging Arrangement for Unmanned Aerial Vehicle Utilizing the Electromagnetic Field Associated With Utility Power Lines to Generate Power to Inductively Charge Energy Supplies//U.S. Patent No. 7,720,566: Control Algorithm for Vertical Package Conveyor//U.S. Patent No. 7,734,449: Numerical Modeling of Nonlinear Ship-Wave Interactions//U.S. Patent No. 7,736,063: Bearing Apparatus Having Electrorheological Fluid Lubricant//U.S. Patent No. 7,756,689: Numerical Modeling of Six-Degree-Freedom Ship Motion//U.S. Patent No. 7,760,585: Through the Bulkhead Repeater//U.S. Patent No. 7,761,125: Intermodulation Distortion Reduction Methodology for High Temperature Superconductor Microwave Filters//U.S. Patent No. 7,761,226: Interactive Pedestrian Routing System//U.S. Patent No. 7,793,374: Adjustable Height Bridging Ramp System//U.S. Patent No. 7,794,808: Elastomeric Damage-Control Barrier//U.S. Patent No. 7,795,120: Doping Wide Band Gap Semiconductors//U.S. Patent No. 7,797,130: Baseline Comparative Leading Indicator Analysis//U.S. Patent No. 7,798,873: Design of a Flush Inlet as Integrated With a Ship Hull for Waterjet Propulsion//U.S. Patent No. 7,808,426: Remote Sensing of Wave Heights Using a Broadband Radar Arrangement//U.S. Patent No. 7,818,193: Ship Stowage Aid Analysis Program//U.S. Patent No. 7,830,302: Remote Sensing of Wave Heights Using a Narrowband Radar Arrangement//U.S. Patent No. 7,833,627: Composite Armor Having Layered Metallic Matrix and Dually Embedded Ceramic Elements//U.S. Patent No. 7,834,490: Bimetallic Strips for Energy Harvesting, Actuation and Sensing//U.S. Patent No. 7,839,721: Modal Beam Processing of Acoustic Vector Sensor Data//U.S. Patent No. 7,841,290: Marine Shaftless External Propulsor//U.S. Patent No. 7,854,189: Modular Missile Launching Assembly//U.S. Patent No. 7,854,912: High Strength Zr (Hf or Ti)—Ta-B Ceramics//U.S. Patent No. 7,864,394: Dynamically Variable Metamaterial Lens and Method//U.S. Patent No. 7,894,204: Matrix Board Assembly//U.S. Patent No. 7,900,453: Metal Fuel Combustion and Energy Conversion System//U.S. Patent No. 7,905,192: Integrated Underwater Surface Cleaning and Effluent Treatment System//U.S. Patent No. 7,938,053: Armor//U.S. Patent No. 7,946,149: Explosive Pulse Testing of Protective Specimens//U.S. Patent No. 7,946,211: Electrical and Elastomeric Disruption of High-Velocity Projectiles//U.S. Patent No. 7,952,239: Bimetallic Strips for Energy Harvesting, Actuation and Sensing//U.S. Statutory Invention Registration No. Us H2206: Tactile Side-Slip Corrective Yaw Control for Aircraft//U.S. Statutory Invention Registration No. Us H2223: Patterned Micrometer-Sized Antibody Features.

ADDRESSES: Requests for copies of the patents cited should be directed to: Technology Transfer Office, Naval Surface Warfare Center Carderock Division, Code 0022, 9500 MacArthur Blvd., West Bethesda, MD 20817-5700, and must include the patent number.

FOR FURTHER INFORMATION CONTACT: Dr. Joseph Teter, Director, Technology Transfer Office, Naval Surface Warfare Center Carderock Division, Code 0022, 9500 MacArthur Blvd., West Bethesda, MD 20817-5700, telephone 301-227-4299.

Authority: 35 U.S.C. 207, 37 CFR part 404.

Dated: June 22, 2011.
L.R. Almand,
Office of the Judge Advocate General, U.S. Navy, Alternate Federal Register Liaison Officer.

[FR Doc. 2011-16140 Filed 6-27-11; 8:45 am]

BILLING CODE 3810-FF-P